Proclamation 7842 of November 4, 2004

National Family Caregivers Month, 2004

By the President of the United States of America

A Proclamation

Every day, family caregivers across our Nation are caring for loved ones who are aging, chronically ill, or disabled. Through their selfless actions, they bring comfort to those in need, enrich their own lives, and reflect the true spirit of America.

America is a country of hope and promise that honors the dignity of all its citizens. Our family caregivers sometimes sacrifice their own emotional and physical needs to dedicate their time and energy to serving their loved ones. By taking on this enormous responsibility, they are helping honor life in all its seasons.

My Administration remains committed to supporting the important contributions of family caregivers. My fiscal year 2005 budget includes tax relief for Americans who need long-term care and individuals who care for these family members in their homes. We will also continue to work with employers, faith-based and community organizations, universities, and national aging organizations to bring critical services such as individual counseling, educational activities, respite care, and family leave policies to more Americans.

By bringing loving support to their loved ones, our Nation's family caregivers make our country a better place. During National Family Caregivers Month, we honor their generosity and dedication, and we recognize the vital role of family in the lives of our citizens.

NOW, THEREFORE, I, GEORGE W. BUSH, President of the United States of America, by virtue of the authority vested in me by the Constitution and laws of the United States, do hereby proclaim November 2004 as National Family Caregivers Month. I encourage all Americans to honor and support the family members, friends, and neighbors who provide care to their loved ones in need.

IN WITNESS WHEREOF, I have hereunto set my hand this fourth day of November, in the year of our Lord two thousand four, and of the Independence of the United States of America the two hundred and twenty-ninth.

B

[FR Doc. 04-25167

Filed 11-8-04; 9:39 am]

Billing code 3195-01-P